DEPARTMENT OF HOMELAND SECURITY

Coast Guard

33 CFR Part 117

[CGD01-05-026]

Drawbridge Operation Regulations: Connecticut River, CT

AGENCY: Coast Guard, DHS.

ACTION: Notice of temporary deviation from regulations.

SUMMARY: The Commander, First Coast Guard District, has issued a temporary deviation from the drawbridge operation regulations for the Amtrak Old Saybrook-Old Lyme Bridge, mile 3.4, across the Connecticut River, Connecticut. This deviation from the regulations allows scheduled bridge openings every two hours between 8 a.m. and 4 p.m. each day from April 11, 2005 through April 30, 2005. This deviation is necessary in order to facilitate electrical repairs at the bridge.

DATES: This deviation is effective from April 11, 2005 through April 30, 2005.

FOR FURTHER INFORMATION CONTACT: Judy Leung-Yee, Project Officer, First Coast Guard District, at (212) 668-7195.

SUPPLEMENTARY INFORMATION: The Old Saybrook-Old Lyme Bridge, at mile 3.4, across the Connecticut River has a vertical clearance in the closed position of 19 feet at mean high water and 22 feet at mean low water. The existing drawbridge operating regulations are listed at 33 CFR 117.205(b).

The owner of the bridge, National Railroad Passenger Corporation (Amtrak), requested a temporary deviation from the drawbridge operating regulations to facilitate scheduled electrical repairs at the bridge.

Under this temporary deviation the Old Saybrook-Old Lyme Bridge shall open on signal at 8 a.m., 10 a.m., 12 p.m., 2 p.m., and 4 p.m. from April 11, 2005 through April 30, 2005. From 4 p.m. to 8 a.m. the draw shall open on signal as soon as practicable for all non-commercial vessels that can not pass under the closed draws, but in no case shall the delay be more than 20 minutes from the time the opening was requested.

In accordance with 33 CFR 117.35(c), this work will be performed with all due speed in order to return the bridge to normal operation as soon as possible. This deviation from the operating regulations is authorized under 33 CFR 117.35.

Dated: April 11, 2005.
Gary Kassof,
Bridge Program Manager, First Coast Guard District.

[FR Doc. 05-7899 Filed 4-19-05; 8:45 am]

BILLING CODE 4910-15-P